NATIONAL ARCHIVES AND RECORDS ADMINISTRATION

36 CFR Part 1290

RIN 3095-AB00

John F. Kennedy Assassination Records Collection Rules, Correction

AGENCY: National Archives and Records Administration (NARA).

ACTION: Correction to 36 CFR part 1290.

SUMMARY: This document contains corrections to the final regulation, which was published in the Federal Register of June 27, 2000, (65 FR 39550). The regulations relate to the John F. Kennedy Assassination Records Collection. This final rule affects individuals and entities seeking access or disclosure of documents relating to the assassination of President John F. Kennedy.

EFFECTIVE DATE: Effective on April 12, 2001.

FOR FURTHER INFORMATION CONTACT: Lynn Dubose at telephone number 301-713-7360, ext. 253 or fax number 301-713-7270.

SUPPLEMENTARY INFORMATION:

Background

The Assassination Records Review Board was established by the John F. Kennedy Assassination Records Collection Act of 1992 (106 Stat. 3443). At the termination of the Review Board on September 30, 1998, its records were transferred to the Archivist of the United States. NARA continues to maintain and supplement the collection under the provisions of the Act. NARA is therefore, the successor in function to this defunct independent agency.

In the final rule NARA transferred those regulations with no substantive change to a new 36 CFR part 1290 in subchapter H. Currently, the CFR contains incorrect internal references. This document corrects those references.

Need for Correction

As published, the final regulations contain errors that are misleading and need to be corrected.

Lists of Subjects in 36 CFR Part 1290

Archives and records.

Accordingly, 36 CFR part 1290 is corrected by making the following correcting amendments:

PART 1290—GUIDANCE FOR INTERPRETATION AND IMPLEMENTATION OF THE PRESIDENT JOHN F. KENNEDY ASSASSINATION RECORDS COLLECTION ACT OF 1992 (JFK ACT)

1. The authority citation for Part 1290 continues to read as follows:

Authority: 44 U.S.C. 2107.

§ 1290.1 [Amended]

2. In paragraph (b)(3) of § 1290.1 revise the reference to “§ 1400.8” to read “§ 1290.8”.

§ 1209.2 [Amended]

3. In paragraph (f) of § 1290.2 revise the reference to “§ 1400.1” to read “§ 1290.1”.

Dated: April 6, 2001.
John W. Carlin,
Archivist of the United States.

[FR Doc. 01-8993 Filed 4-11-01; 8:45 am]

BILLING CODE 7515-01-U